DEPARTMENT OF HEALTH AND HUMAN SERVICES

Health Resources and Services Administration

Meetings of the Council on Graduate Medical Education

AGENCY: Health Resources and Services Administration (HRSA), Department of Health and Human Services (HHS).

ACTION: Notice.

SUMMARY: In accordance with the Federal Advisory Committee Act, this notice announces that the Council on Graduate Medical Education (COGME or Council) will hold public meetings for the 2025 calendar year (CY). Information about COGME, agendas, and materials for these meetings can be found on the COGME website at: https://www.hrsa.gov/advisory-committees/graduate-medical-edu.

DATES: COGME meetings will be held on:

• April 10, 2025, 8 a.m.-5 p.m. eastern time (ET) and April 11, 2025, 8 a.m.-2 p.m. ET.

• September 11, 2025, 8 a.m.-5 p.m. ET and September 12, 2025, 8 a.m.-4 p.m. ET.

ADDRESSES: Meetings will be held in-person, by teleconference, and/or on a video conference platform. In-person meetings will be held at 5600 Fishers Lane, Rockville, Maryland 20857. For updates on how the meetings will be held, instructions for joining meetings, and any other updates, visit the COGME website 30 business days before the date of the meeting at https://www.hrsa.gov/advisory-committees/graduate-medical-edu/meetings.

FOR FURTHER INFORMATION CONTACT: Shane Rogers, Designated Federal Officer, Division of Medicine and Dentistry, Bureau of Health Workforce, HRSA, 5600 Fishers Lane, Room 15N39, Rockville, Maryland 20857; 301-443-5260; or SRogers@hrsa.gov.

SUPPLEMENTARY INFORMATION: COGME provides advice and recommendations to the Secretary of HHS and Congress on policy, program development, and other matters of significance regarding the issues listed in section 762(a)(1) of the Public Health Service Act. Issues addressed by the COGME include the supply and distribution of the physician workforce in the United States, including any projected shortages or excesses, issues related to foreign medical school graduates, the nature and financing of undergraduate and graduate medical education, appropriation levels for certain programs under title VII of the Public Health Service Act, and deficiencies in databases concerning the supply and distribution of the physician workforce and postgraduate programs for training physicians. COGME submits reports not less than every 5 years to the Secretary of HHS; the Senate Committee on Health, Education, Labor, and Pensions; and the House of Representatives Committee on Energy and Commerce. Additionally, COGME encourages entities providing graduate medical education to conduct activities to voluntarily achieve the recommendations of the Council related to appropriate efforts to be carried out by hospitals, schools of medicine, schools of osteopathic medicine, and accrediting bodies with respect to the supply and distribution of physicians in the United States; current and future shortages or excesses of physicians in medical and surgical specialties and subspecialties; and issues relating to foreign medical school graduates, including efforts for changes in undergraduate and graduate medical education programs.

Since priorities dictate meeting times, be advised that start times, end times, and agenda items are subject to change. For CY 2025 meetings, agenda items may include, but are not limited to: discussions on team-based care and the Senate Finance Committee's Medicare Graduate Medical Education draft policy document. Refer to the COGME website listed above for all current and updated information concerning the CY 2025 COGME meetings, including agendas and meeting materials that will be posted 30 calendar days before the meeting.

Members of the public will have the opportunity to provide comments. Public participants may submit written statements in advance of the scheduled meeting. Oral comments will be honored in the order they are requested and may be limited as time allows. Requests to submit a written statement or make oral comments to COGME should be sent to Shane Rogers using the contact information above at least 5 business days before the meeting date. Individuals who need special assistance or another reasonable accommodation should notify Shane Rogers using the contact information listed above at least 10 business days before the meeting(s) they wish to attend. Since all in-person meetings will occur in a federal government building at 5600 Fishers Lane, Rockville, MD 20857, attendees must go through a security check to enter the building. Members of the public must notify the Designated Federal Officer of their intent to attend the in-person meeting 10 business days before the meeting. Non-U.S. citizen attendees must notify the Designated Federal Officer of their planned attendance at least 20 business days prior to the meeting to facilitate their entry into the building. All attendees are required to present government-issued identification prior to entry.

Maria G. Button,
Director, Executive Secretariat.

[FR Doc. 2024-30076 Filed 12-18-24; 8:45 am]

BILLING CODE 4165-15-P